DEPARTMENT OF ENERGY

Federal Energy Regulatory Commission

[Project No. 13570-002]

Warmsprings Irrigation District; Notice of Application Tendered for Filing With the Commission and Soliciting Additional Study Requests

Take notice that the following hydroelectric application has been filed with the Commission and is available for public inspection.

a. Type of Application: Application for New License for a Major Water Project 5 Megawatts or Less—Existing Dam.

b. Project No.: 13570-002.

c. Date filed: April 15, 2013.

d. Applicant: Warmsprings Irrigation District.

e. Name of Project: Warm Springs Dam Hydroelectric Project.

f. Location: On the Malheur River, near the Town of Juntura, Malheur County, Oregon. The project would utilize the existing Warm Springs dam and reservoir, which is owned by the U.S. Bureau of Reclamation and would occupy 13.5 acres of land administered by the U.S Bureau of Land Management.

g. Filed Pursuant to: Federal Power Act 16 U.S.C. 791 (a)-825(r).

h. Applicant Contact: Mr. Randy Kinney, Warmsprings Irrigation District, 334 Main Street North, Vale, OR 97918, (541) 473-3951.

i. FERC Contact: Kelly Wolcott; phone: (202) 502-6480; email: kelly.wolcott@ferc.gov

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 14, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

m. The application is not ready for environmental analysis at this time.

n. The proposed project would utilize the existing U.S. Bureau of Reclamation's Warm Springs dam and reservoir, and would consist of the following new facilities: (1) An 8-foot-diameter, 32-foot-long cylindrical intake; (2) a 190-foot-long, 8-foot-diameter steel penstock; (3) a powerhouse containing one 2.7-megawatt Francis or Kaplan turbine; (4) a 2.2-mile-long, 25-kilovolt (kV) transmission line; and (5) appurtenant facilities. The average annual generation is estimated to be 7.442 gigawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Oregon State Historic Preservation Officer (SHPO), as required by section 106 of the National Historic Preservation Act and the regulations of the Advisory Council on Historic Preservation, 36 CFR 800.4.

q. Procedural schedule: The application will be processed according to the following preliminary Hydro Licensing Schedule. Revisions to the schedule will be made as appropriate.

Issue Adequacy or Deficiency Letter (if needed) | June 2013.
Issue Acceptance Letter | August 2013.
Issue Scoping Document 1 for Comments | September 2013.
Comments on Scoping Document 1 | October 2013.
Issue Scoping Document 2 | December 2013.
Issue notice of ready for environmental analysis | December 2013.
Issue draft Environmental Assessment (EA) | June 2014.
Comments on draft EA | July 2014.
Issue final EA | October 2014.

Dated: April 19, 2013.
Kimberly D. Bose,
Secretary.

[FR Doc. 2013-09981 Filed 4-26-13; 8:45 am]

BILLING CODE 6717-01-P